DEPARTMENT OF HEALTH AND HUMAN SERVICES

National Institutes of Health

National Institute on Deafness and Other Communication Disorders; Amended Notice of Meeting

Notice is hereby given of a change in the meeting of the Communication Disorders Review Committee, October 03, 2013, 08:00 a.m. to October 04, 2013, 05:00 p.m., Embassy Suites at the Chevy Chase Pavilion, 4300 Military Road NW., Washington, DC 20015 which was published in the Federal Register on September 16, 2013, 78 FR 56902.

This meeting will be held on December 5, 2013 from at 8:00 a.m. to 6:00 p.m. The location remains the same. The meeting is closed to the public.

Dated: October 22, 2013.
Melanie J. Gray,
Program Analyst, Office of Federal Advisory Committee Policy.

[FR Doc. 2013-25234 Filed 10-25-13; 8:45 am]

BILLING CODE 4140-01-P